DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 15, 2020. Address written comments to Statutory Import Programs Staff, Room 3720, U.S. Department of Commerce, Washington, DC 20230. Please also email an electronic copy of any written comments to Dianne.Hanshaw@trade.gov. Arrangements to review any applications can also be made with correspondence through that email address.

Docket Number: 20-008. Applicant: Rice University, 6100 Main Street, Houston, TX 77005. Instrument: Signal Acquisition ASCI. Manufacturer: LiMicro, China. Intended Use: According to the applicant, the instrument will be used to study and investigate in-vivo large-scale, high density, long-term neutral recording to integrate the signal acquisition instrument that it plans to purchase with its custom developed ultra-flexible nano electronic thread (NET) microelectrodes as a neural recording system to monitor chronic neural signals in freely behaving animals. The applicant also plans to investigate the formation of connections between various brain regions and the evolution of the neural connections over extended periods. This large-scale, high-density, long-term neural recording study has the potential to help understand the fundamental mechanisms of neural circuitry and explore treatments for neurological conditions. Justification for Duty-Free Entry: There are no instruments of the same general category manufactured in the United States. Application accepted by Commissioner of Customs: August 12, 2020.

Docket Number: 20-009. Applicant: University of Chicago, Chemistry E005A, 929 E 57th Street (loading docket behind 5741 S Drexel Avenue), Chicago, IL 60637. Instrument: White Dwarf Optimal Parametric Amplifier System (OPCPA). Manufacturer: Class 5 Photonics, GmbH, Germany. Intended Use: According to the applicant, the instrument will be used to study and determine how the local electronic structure of nanostructured materials is related to their morphology, and directly measure the electronic transitions at buried interfaces in materials, controlling anisotropic charge transport via photoinduced strain effects, manipulating energy transfer in polaritonic systems. The OPCPA is a work-horse laser system for simultaneous use with multiple experiments. The experiments to be conducted involve time-resolved photoemission microscopy of both occupied and unoccupied electronic structure of materials, heterodyned electronic sum-frequency-generation spectroscopy, transient absorption spectroscopy. Justification for Duty-Free Entry: According to the applicant, there are no instruments of the same general category manufactured in the United States. Application accepted by Commissioner of Customs: October 9, 2020.

Dated: November 19, 2020.
Richard Herring,
Acting Director, Subsidies Enforcement, Enforcement and Compliance.

[FR Doc. 2020-26020 Filed 11-24-20; 8:45 am]

BILLING CODE 3510-DS-P